DEPARTMENT OF THE INTERIOR

Bureau of Land Management

[NV-030-00-1020-24]

Sierra Front/Northwestern Great Basin Resource Advisory Council; Notice of Meeting Location and Time

AGENCY: Bureau of Land Management, Interior.

ACTION: Notice of meeting location and time for the Sierra Front/Northwestern Great Basin Resource Advisory Council (Nevada).

SUMMARY: In accordance with the Federal Land Policy and Management Act and the Federal Advisory Committee Act of 1972 (FACA), the U.S. Department of the Interior, Bureau of Land Management (BLM) Sierra Front/Northwestern Great Basin Resource Advisory Council (RAC), Nevada, will be held as indicated below. Topics for discussion will include issues related to Clean Water Action Plans/standards for water quality; discussion of proposed pilot projects for the Great Basin Restoration Initiative for Carson City & Winnemucca Field Offices; voluntary acquisition of water rights in the Walker River Basin; review of the preliminary final draft of the Black Rock Management Plan (if completed); presentation of the proposed alternative for the Washoe County Open Space Plan; review of the BLM National Off-Highway Vehicle Strategy; and other topics the council may raise.

All meetings are open to the public. The public may present written and/or oral comments to the council. The public comment period for the council meeting will be at 2 p.m. on Thursday, July 27th. The agenda will be available on the internet by July 14, 2000, at www.nv.blm.gov/rac; hard copies can also be mailed or sent via FAX. Individuals who need special assistance such as sign language interpretation or other reasonable accommodations should contact Mark Struble, Carson City Field Office, 5665 Morgan Mill Road, Carson City, NV 89701, telephone (775) 885-6107 no later than July 21, 2000.

DATE & TIME: The RAC will meet on Thursday, July 27, 2000, from 9 a.m. to 5 p.m. and 7 p.m. to 9 p.m., and Friday, July 28, 2000, from 8 a.m. to 4 p.m., in the Catholic Center/ Religious Education Social Hall, Church of the Holy Family, 38 North West Street at Virginia Street, Yerington, Nevada. Public comment on individual topics will be received at the discretion of the council chairperson, as meeting moderator, with a general public comment period on Thursday, July 27, 2000, at 2 p.m. An evening public forum will also be held on Thursday, July 27th starting at 7 p.m. for the RAC to dialogue with members of the public on the BLM Walker River Basin EIS Project.

FOR FURTHER INFORMATION CONTACT: Mark Struble, Public Affairs Officer, Carson City Field Office, 5665 Morgan Mill Road, Carson City, NV 89701. Telephone (775) 885-6107.

Dated: June 12, 2000.
John O. Singlaub,
Manager, Carson City Field Office.

[FR Doc. 00-15997 Filed 6-23-00; 8:45 am]

BILLING CODE 4310-HC-P